DEPARTMENT OF THE INTERIOR

Bureau of Land Management

[CA-680-5101-ER-B124; CACA-41418]

Proposed Plan Amendment

AGENCY: Bureau of Land Management, Interior.

ACTION: Notice of intent for plan amendment to California desert conservation area plan.

SUMMARY: Notice is hereby given that the Bureau of Land Management (BLM) has proposed a plan amendment to the California Desert Conservation Area Plan (CDCA) to partially exempt a proposed fiber optic cable right-of-way from a designated Energy Production and Utility Corridor for a portion of the proposed alignment.

DATES: Written scoping comments must be received no later than August 24, 2000.

ADDRESSES: Written scoping comments should be addressed to: Becki Gonzales, Attn: Plan Amendment, Barstow Field Office, 2601 Barstow Road, Barstow, CA 92311.

FOR FURTHER INFORMATION CONTACT: Becki Gonzales (760) 252-6029.

SUPPLEMENTARY INFORMATION: An approximate 235.8 mile fiber optic cable is proposed by Level 3 Communications, L.L.C., from Las Vegas, Nevada to San Bernardino, California. A major portion of the proposed route will utilize Energy Production and Utility Corridor “D” as shown in the California Desert Conservation Area Plan 1980 (CDCA), as amended. The proposed right-of-way as it nears the City of Victorville, deviates from the corridor at Stoddard Wells Road following existing fiber optic lines to Black Mountain Quarry Road, returning to the corridor. The approximate 12 miles segment where the proposed route leaves Corridor D is not formally designated as a utility corridor by the CDCA Plan. The proposed plan amendment/exemption is being evaluated in the environmental documentation for the proposed fiber optic facility.

Individual respondents may request confidentiality. If you wish to withold your name or street address from public review or from disclosure under the Freedom of Information Act, you must state this prominently at the beginning of your written comment. Such requests will be honored to the extent allowed by law. All submissions from organizations or business, and from individuals identifying themselves as representatives or officials of organization or business, will be made available for public inspection in their entirety.

Dated: July 18, 2000.
James L. Williams,
Acting District Manager.

[FR Doc. 00-18652 Filed 7-24-00; 8:45 am]

BILLING CODE 4310-40-P